DEPARTMENT OF ENERGY

Federal Energy Regulatory Commission

[Docket No. RP02-179-002]

Williams Gas Pipelines Central, Inc.; Notice of Motion to Make Tariff Sheets Effective

August 23, 2002.

Take notice that on August 16, 2002, Williams Gas Pipelines Central, Inc. (Williams) tendered for filing as part of its FERC Gas Tariff, Original Volume No. 1, the tariff sheets listed on Appendix A to the filing, to become effective September 1, 2002.

Williams states that the tariff sheets are identical to the tariff sheets filed initially on March 1, 2002 to transition Williams from a monthly allocation pipeline to a daily allocation pipeline. On March 28, 2002, the Commission issued an order accepting the proposed tariff sheets and suspending their effective date until September 1, 2002, subject to refund and to the outcome of Williams' Order No. 637 proceeding in Docket No. RP00-494.

As Williams reserved its right to move the suspended sheets into effect through its March 1, 2002 filing, Williams hereby exercises its reserved rights and with the instant filing, moves the suspended tariff sheets into effect on September 1, 2002, consistent with the Suspension Order.

Williams states that copies of the revised tariff sheets are being mailed to Williams' jurisdictional customers and interested state commissions, as well as those appearing on the official service list for this docket.

Any person desiring to protest said filing should file a protest with the Federal Energy Regulatory Commission, 888 First Street, NE., Washington, DC 20426, in accordance with section 385.211 of the Commission's Rules and Regulations. All such protests must be filed on or before August 30, 3002. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, call (202)502-8222 or for TTY, (202) 208-1659. Comments, protests and interventions may be filed electronically via the Internet in lieu of paper. The Commission strongly encourages electronic filings. See, 18 CFR 385.2001(a)(1)(iii) and the instructions on the Commission's web site under the “e-Filing” link.

Linwood A. Watson, Jr.
Deputy Secretary.

[FR Doc. 02-22048 Filed 8-28-02; 8:45 am]

BILLING CODE 6717-01-P